Memorandum of April 25, 2023

Delegation of Authority Under Section 5948(d) of the James M. Inhofe National Defense Authorization Act for Fiscal Year 2023

Memorandum for the Secretary of State

By the authority vested in me as President by the Constitution and the laws of the United States of America, including section 301 of title 3, United States Code, I hereby delegate to the Secretary of State the authority to submit to the Congress the report required by section 5948(d) of the James M. Inhofe National Defense Authorization Act for Fiscal Year 2023 (Public Law 117-263).

The delegation in this memorandum shall apply to any provision of any future public law that is the same or substantially the same as the provision referenced in this memorandum.

You are authorized and directed to publish this memorandum in the Federal Register.

THE WHITE HOUSE,

Washington, April 25, 2023

[FR Doc. 2023-09299

Filed 4-28-23; 8:45 am]

Billing code 4710-10-P